DEPARTMENT OF TRANSPORTATION

Coast Guard

[USCG-2001-11226]

Chemical Transportation Advisory Committee

AGENCY: Coast Guard, DOT.

ACTION: Notice of meeting.

SUMMARY: The Subcommittees of the Chemical Transportation Advisory Committee (CTAC) on Prevention Through People (PTP) and Vessel Cargo Tank Overpressurization will meet to continue their work on their Subcommittee Task Statements. The PTP Subcommittee will meet to review its draft of the Marine Operations Risk Assessment Guide and to continue its work with the Ovepressurization Subcommittee in conducting a risk assessment for purging operations. The Vessel Cargo Tank Overpressurization Subcommittee will meet to continue developing recommendations for CTAC in an effort to prevent cargo tank overpressurization during inerting, padding, purging, line clearing, and railcar transfer operations. These meetings will be open to the public.

DATES: The PTP Subcommittee will meet on Thursday, January 17, 2002, from 9 a.m. to 4 p.m. The Vessel Cargo Tank Overpressurization Subcommittee will meet on Friday, January 18, 2002, from 9 a.m. to 3:30 p.m. These meetings may close early if all business is finished. Written material and requests to make oral presentations should reach the Coast Guard on or before January 14, 2002. Requests to have a copy of your material distributed to each member of the Subcommittee should reach the Coast Guard on or before January 14, 2002.

ADDRESSES: The Subcommittees will meet at Stolt-Nielsen Transportation Group Ltd., 15635 Jacintoport Blvd., Houston, Texas. Send written material and requests to make oral presentations to Lieutenant Greg Herold or Lieutenant Michael McKean, Coast Guard Technical Representatives for the Subcommittees, Commandant (G-MSO-3), U.S. Coast Guard Headquarters, 2100 Second Street SW., Washington, DC 20593-0001. This notice is available on the Internet at http://dms.dot.gov.

FOR FURTHER INFORMATION CONTACT: Lieutenant Greg Herold, the Coast Guard Technical Representative for the PTP Subcommittee, telephone 202-267-0084, fax 202-267-4570, or Lieutenant Michael McKean, the Coast Guard Technical Representative for the Vessel Cargo Tank Overpressurization Subcommittee, telephone 202-267-0087, fax 202-267-4570.

SUPPLEMENTARY INFORMATION: Notice of this meeting is given under the Federal Advisory Committee Act, 5 U.S.C. App. 2.

Agenda of Meetings

The agenda of the CTAC Subcommittee on PTP includes the following:

(1) Introduction of Subcommittee members and attendees.

(2) Brief review of Subcommittee tasking and desired outcome.

(3) Review and discuss the Marine Operations Risk Assessment Guide.

(4) Discuss case studies and ways to enhance the Assessment Guide.

(5) Discuss the marketing and distribution of the Assessment Guide.

The agenda of the CTAC Subcommittee on Vessel Cargo Tank Overpressurization includes the following:

(1) Introduction of Subcommittee members and attendees.

(2) Brief review of Subcommittee tasking and desired outcome.

(3) Finish risk analysis of purging operation using the PTP Marine Operations Risk Assessment Guide.

(4) Continue work to complete long-term task.

Procedural

These meetings are open to the public. Please note that the meetings may close early if all business is finished. All attendees at the meetings are encouraged to fully review the Subcommittee's past work prior to the meetings. Copies of the Subcommittee's past work can be obtained from Lieutenant Greg Herold or Lieutenant Michael McKean, telephone 202-267-0084 or 0087, respectively, fax 202-267-4570. Information is also available from the CTAC Internet Website at: www.uscg.mil/hq/g-m/advisory/ctac. At the discretion of the Subcommittee Chairs, members of the public may make oral presentations during the meetings. If you would like to make an oral presentation at one of the meetings, please notify the Coast Guard Technical Representative to that Subcommittee and submit written material on or before January 14, 2002. If you would like a copy of your material distributed to each member of a Subcommittee in advance of a meeting, please submit 25 copies to the Coast Guard Technical Representative to that Subcommittee no later than January 14, 2002.

Information on Services for Individuals With Disabilities

For information on facilities or services for individuals with disabilities, or to request special assistance at the meeting, contact the Coast Guard Technical Representative for the Subcommittee as soon as possible.

Dated: December 21, 2001.
Howard L. Hime,
Acting Director of Standards, Marine Safety and Environmental Protection.

[FR Doc. 01-32028 Filed 12-28-01; 8:45 am]

BILLING CODE 4910-15-M